DEPARTMENT OF HEALTH AND HUMAN SERVICES

Services Abuse and Mental Health Services Administration (SAMHSA)

AGENCY: Center for Mental Health Services; Center for Substance Abuse Prevention; Center for Substance Abuse Treatment; Substance Abuse and Mental Health Services Administration, HHS; Notice of Technical Assistance Workshops

Notice is hereby given of the following workshops for the provision of technical assistance to potential applicants for SAMHSA grants.

The Substance Abuse and Mental Health Services Administration's (SAMHSA's) Center for Mental Health Services (CMHS), Center for Substance Abuse Prevention (CSAP) and Center for Substance Abuse Treatment (CSAT), are offering a series of three one and a half day regional Technical Assistance Workshops for prospective applicants. These workshops will be conducted jointly by the three SAMHSA Centers to provide support to prospective applicants in preparing their applications in response to published grant announcements.

Several SAMHSA grant announcements will be featured at the workshop, including:

Center for Mental Health Services: Youth Violence Prevention, Circles of Care, HIV/AIDS in Minority Communities, Targeted Capacity Response, State Data Infrastructure, Restraint and Seclusion

Center for Substance Abuse Prevention: Community-Initiated Prevention Interventions, High-Risk Youth, HIV/AIDS in Minority Communities, State Incentive Grants, Fetal Alcohol Syndrome

Center for Substance Abuse Treatment: Targeted Capacity Expansion, Strengthening Treatment for Children & Adolescents, Strengthening Treatment for Racial/Ethnic Minority Populations, Comprehensive Community Treatment Program for the Development of New and Useful Knowledge, Substance Abuse Treatment for Homeless Individuals, Re-Entry, Recovery Community Support Program, TCE/HIV

More information about each grant program will be available on SAMHSA's website at: http//www.samhsa.gov. The Guidance for Applicants (GFAs) for these grant programs can also be found at SAMHSA's website following publication in the Federal Register. Potential participants are strongly encouraged to check these resources prior to attending the workshop.

The Technical Assistance Workshops will be held at the following locations: Workshop I—March 15 and 16, Holiday Inn Hotel and Conference Center, Scottsdale, AZ, (480) 994-9203 or (800) 695-6995; Workshop II—March 20 and 21, Adam's Mark Hotels and Resorts, Orlando, FL, (407) 859-1500; and Workshop III—March 22 and 23, The Boston Park Plaza Hotel, Boston, MA, (617) 426-2000 or (800) 225-2008.

Registration and check-in at each site will be at 7:30 a.m.; workshop hours on the first day are 8:30 a.m.-6 p.m. On the second day, the grant writing session will take place from 8:30 a.m.-3:30 p.m.

Preliminary Agenda Highlights for the TA Workshops include: (1) Review of SAMHSA programs and priorities; (2) Provision of related resource materials; (3) Technical/practical aspects of the grants application process including application requirements, improving applications, instruction in completing required forms, submission, review, and award procedures; (4) Separate breakout sessions for discussion of specific grant announcements; and (5) Opportunity for questions and answers. On the second day, there will be a session designed to provide further assistance with grant writing and application preparation.

TA Workshop Arrangements

There is no registration fee for the workshops. However, space is limited and preregistration is strongly encouraged. Registrants will be responsible for costs associated with their own travel, meals, and lodging. Workshop confirmation will be faxed. For further assistance, please call the SAMHSA hotline at (301) 984-1471, ext. 377 or by fax at (301) 945-4298. SAMHSA suggests that the attendees be those persons having the responsibility for conceptualizing and writing the application.

Hotel Information

Participants are responsible for making their own hotel reservations. When calling the hotel, reference the SAMHSA TA Workshop. Registrants are urged to make their reservations as soon as possible.

Dated: February 5, 2001.
Richard Kopanda,
Executive Officer, SAMHSA.

[FR Doc. 01-3418 Filed 2-8-01; 8:45 am]

BILLING CODE 4162-20-U